DEPARTMENT OF ENERGY

State Energy Advisory Board

AGENCY: Office of Energy Efficiency and Renewable Energy, Department of Energy.

ACTION: Notice of open teleconference.

SUMMARY: This notice announces a Virtual Meeting of the State Energy Advisory Board (STEAB). The Federal Advisory Committee Act requires that public notice of these meetings be announced in the Federal Register.

DATES: Wednesday, May 6, 2020, from 12:00 p.m. to 4:00 p.m. (ET).

To receive the Virtual Meeting information, please contact the Board's Designated Federal Officer at the address or phone number listed below.

FOR FURTHER INFORMATION CONTACT: Jay Nathwani, Designated Federal Officer, Office of Energy Efficiency and Renewable Energy, US Department of Energy, 1000 Independence Ave. SW, Washington, DC 20585. Phone number 202-586-9410, and email jay.nathwani@ee.doe.gov.

SUPPLEMENTARY INFORMATION:

Purpose of the Board: To make recommendations to the Assistant Secretary for the Office of Energy Efficiency and Renewable Energy regarding goals and objectives, programmatic and administrative policies, and to otherwise carry out the Board's responsibilities as designated in the State Energy Efficiency Programs Improvement Act of 1990 (Pub. L. 101-440).

Tentative Agenda: During this Virtual Meeting Assistant Secretary of EERE will provide the charges to STEAB, Deputy Assistant Secretary of Energy Efficiency will discuss opportunities and engagement with-in Energy Efficiency Sector, and EERE Technology Offices will discuss various funding opportunities and ways the State Energy Office can access DOE resources.

Public Participation: The Virtual Meeting is open to the public. Written statements may be filed with the Board either before or after the meeting. Members of the public who wish to make oral statements pertaining to agenda items should contact Jay Nathwani at the address or telephone number listed above. Requests to make oral comments must be received five days prior to the meeting; reasonable provision will be made to include requested topic(s) on the agenda. The Chair of the Board is empowered to conduct the meeting in a fashion that will facilitate the orderly conduct of business.

Minutes: The minutes of the meeting will be available for public review and copying within 60 days on the STEAB website at: http://www.energy.gov/eere/steab/state-energy-advisory-board.

Signed in Washington, DC, on April 1, 2020.
LaTanya Butler,
Deputy Committee Management Officer.

[FR Doc. 2020-07155 Filed 4-3-20; 8:45 am]

BILLING CODE 6450-01-P